DEPARTMENT OF ENERGY

Federal Energy Regulatory Commission

[ Docket No. ER05-1501-000]

California Independent System Operator Corporation; Notice of Technical Conference Agenda

December 1, 2005.

As announced in the Notice of Technical Conference issued on November 21, 2005, the Commission Staff will convene a technical conference on Wednesday, December 7, 2005, from 9:30 a.m. to 5 p.m. (EST), at the Federal Energy Regulatory Commission, 888 First Street, NE., Washington, DC, in a room to be announced at a later date. The technical conference will address the issues identified in the interventions and protests filed in this docket, as well as the responses in the CAISO's answer to those interventions and protests.

Please take notice of the conference agenda below:

I. Opening remarks by Commission Staff

II. Presentation by the CAISO

III. Discussion

IV. Comments from Staff

Conferences are accessible under section 508 of the Rehabilitation Act of 1973. For accessibility accommodations please send an e-mail to accessibility@ferc.gov or call toll free 1-866-208-3372 (voice) or 202-208-1659 (TTY), or send a FAX to 202-208-2106 with the required accommodations.

For more information about the conference, including participant access information, please contact: Connie Caldwell at (202) 502-6489 or connie.caldwell@ferc.gov, or Marion Whitaker at (202) 502-8264 or marion.whitaker@ferc.gov.

Magalie R. Salas,
Secretary.

[FR Doc. E5-7092 Filed 12-8-05; 8:45 am]

BILLING CODE 6717-01-P